DEPARTMENT OF THE INTERIOR

Bureau of Indian Affairs

Nominations for Indian Reservation Roads Program Coordinating Committee

AGENCY: Bureau of Indian Affairs, Interior.

ACTION: Notice of intent to form the Indian Reservation Roads Program Coordinating Committee under 25 CFR 170.155-158.

SUMMARY: The Secretary of the Interior is requesting nominations for tribal regional representatives to the Indian Reservation Roads (IRR) Program Coordinating Committee (Committee) which will be established under 25 CFR 170. The IRR final rules amending 25 CFR 170 include establishing a Committee to provide input and recommendations to the Bureau of Indian Affairs (BIA) and the Federal Highway Administration (FHWA) in developing IRR Program policies and procedures and to coordinate with and obtain input from tribes, BIA, and FHWA.

The Secretary will accept only nominations for tribal representatives and alternates officially selected by tribes in each of the 12 BIA regions as stated below.

DATES: Nominations for the IRR Program Coordinating Committee tribal representatives and alternates must be received no later than February 28, 2005 at the address below. Nominations received after this date will not be considered.

ADDRESSES: Send nominations to Mr. LeRoy Gishi, Chief, Division of Transportation, Bureau of Indian Affairs, U.S. Department of the Interior, 1951 Constitution Avenue, NW., Mail Stop 320-SIB, Washington, DC 20240.

FOR FURTHER INFORMATION CONTACT: Mr. LeRoy Gishi, Chief, Division of Transportation, Bureau of Indian Affairs, 1951 Constitution Avenue, NW., Mail Stop 320-SIB, Washington, DC 20240, Telephone (202) 513-7711 or Fax (202) 208-4696.

SUPPLEMENTARY INFORMATION: The IRR final rules amending 25 CFR Part 170, effective November 13, 2004, are the result of negotiated rulemaking between tribal and Federal representatives under the Transportation Equity Act for the 21st Century (TEA-21). The IRR final rules include the negotiated rulemaking committee's recommendation that the Secretary of the Interior and the Secretary of Transportation establish an IRR Program Coordinating Committee to provide input and recommendations to BIA and FHWA in developing IRR Program policies and to coordinate with and obtain input from tribes, BIA, and FHWA. As recommended, the Committee will consist of 12 tribal regional representatives (one from each BIA region) and two non-voting Federal representatives (from BIA and FHWA). In addition to the 12 tribal regional representatives, the Committee will include one alternate from each BIA region who will attend Committee meetings in the absence of the tribal regional representative. Each tribal regional representative must be a tribal governmental official or employee with authority to act for the tribal government.

The Secretary must select regional tribal representatives and alternates from nominees officially proposed by the region's tribes. The Secretary will appoint the initial tribal regional representatives and alternates from each BIA region to either a 1-, 2- or 3-year appointment in order to establish a yearly, one-third change in tribal regional representatives. All appointments thereafter will be for 3-year terms. To the extent possible, the Secretary must make the selection so that there is representation from a broad cross-section of large, medium, and small tribes. The Secretary of the Interior will provide guidance for the replacement of representatives.

IRR Program Coordinating Committee Responsibilities

The responsibilities of the Committee are to provide input and recommendations to BIA and FHWA during the development or revision of:

• BIA/FHWA IRR Program Stewardship Plan;

• IRR Program policy and procedures;

• IRR Program eligible activities' determinations;

• IRR Program transit policy;

• IRR Program regulations;

• IRR Program management systems policy and procedures;

• IRR Program fund distribution formula (under 25 CFR 170.157); and

• National tribal transportation needs.

The Committee also reviews and provides recommendations on IRR Program national concerns, including implementation of 25 CFR 170, as amended.

IRR Program Coordinating Committee Role in the Funding Process

The Committee will provide input and recommendations to BIA and FHWA for:

• New IRR inventory data format and form;

• Simplified cost to construct (CTC) methodology (including formula calculations, formula program and design, and bid tab methodology);

• Cost elements;

• Over-design issues;

• Inflation impacts on $1 million cap for the Indian Reservation Roads High Priority Project (IRRHPP) and Emergency Projects (including the IRRHPP Ranking System and emergency/disaster expenditures report); and

• The impact of including funded but non-constructed projects in the CTC calculation.

IRR Program Coordinating Committee Conduct of Business

The Committee will hold two meetings per fiscal year. The Committee may call additional meeting(s) with the consent of one-third of Committee members or BIA or FHWA may call additional meeting(s). A quorum consists of eight voting Committee members. The Committee will operate by consensus or majority vote, as the Committee determines in its protocols. The Committee must elect from among the Committee membership a Chair, Vice-Chair, and other officers. These officers will be responsible for preparing for and conducting Committee meetings and summarizing meeting results. The Committee may prescribe other duties for the officers. Any Committee member can submit an agenda item to the Committee Chair.

IRR Program Coordinating Committee Reporting Requirements and Budget

The Committee must keep the Secretary and tribes informed through an annual accomplishment report provided within 90 days after the end of each fiscal year. The Committee's budget, funded through the IRR Program management and oversight funds, will not exceed $150,000 annually.

Submitting Nominations

Tribes may nominate up to three individuals from their respective region for the committee. Nominations for alternate positions should clearly state such. Nominees must be tribal governmental officials or employees with authority to act for the tribal government. Nominations must be on official tribal government letterhead signed by a tribal governmental official. Nominations must include written authority for the nominee to act for the tribal government, if the nominee is appointed, and include a resume showing the nominee's relevant education and training, current job description, and professional experience level in the IRR program, transportation, or transit areas. Incomplete nominations will not be considered.

To be considered, nominations must be received by the close of business February 28, 2005, at the location indicated in the ADDRESSES section.

Dated: December 29, 2004.
David W. Anderson,
Assistant Secretary—Indian Affairs.

[FR Doc. 05-727 Filed 1-12-05; 8:45 am]

BILLING CODE 4310-LY-P